DEPARTMENT OF LABOR

Mine Safety and Health Administration

[OMB Control No. 1219-0New]

Proposed Extension of Information Collection: Coal Respirator Program

AGENCY: Mine Safety and Health Administration, Labor.

ACTION: Request for public comments.

SUMMARY: The Department of Labor (DOL), as part of its continuing effort to reduce paperwork and respondent burden, conducts a pre-clearance consultation program to provide the general public and Federal agencies with an opportunity to comment on proposed collections of information in accordance, with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection for Coal Respirator Program.

DATES: All comments must be received on or before July 1, 2024.

ADDRESSES: Comments concerning the information collection requirements of this notice may be sent by any of the methods listed below. Please note that late comments received after the deadline will not be considered.

• Federal E-Rulemaking Portal: https://www.regulations.gov. Follow the on-line instructions for submitting comments for docket number MSHA-2024-0004.

• Mail/Hand Delivery: DOL-MSHA, Office of Standards, Regulations, and Variances, 201 12th Street South, 4th Floor West, Arlington, VA 22202-5452. Before visiting MSHA in person, call 202-693-9455 to make an appointment, in keeping with the Department of Labor's COVID-19 policy. Special health precautions may be required.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

Section 103(h) of the Federal Mine Safety and Health Act of 1977, as amended (Mine Act), 30 U.S.C. 813(h), authorizes MSHA to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal mines.

A final rule titled “Lowering Miners' Exposure to Respirable Crystalline Silica and Improving Respiratory Protection” (RIN 1219-AB36) amends 30 CFR 72.710 to incorporate by reference ASTM F3387-19, entitled “Standard Practice for Respiratory Protection,” because it is the most recent consensus standard developed by experts in government and professional associations on the selection, use, and maintenance for respiratory equipment. The final rule requires that approved respirators be selected, fitted, used, and maintained in accordance with the provisions of a written respiratory protection program consistent with the requirements of ASTM F3387-19.

Section 30 CFR 72.710 incorporates, by reference, requirements of ASTM F3387-19 related to respiratory protective equipment. These requirements mandate that coal mines where miners must wear respirators have written standard operating procedures (SOPs) for their respiratory program, that such miners who must wear respirators are fit-tested in a medical evaluation to the respirators that they will use, and that mines perform emergency respirator inspections. Records are also required to be kept in connection with respirators, including revised written SOPs governing the selection and use of respirators; records relating to the respiratory programs according to ASTM requirements; medical evaluation/fit-test results; and records of emergency respirators inspection. Emergency respirator inspections are regular inspections of respirators reserved for use during emergencies; the inspections are used to ensure that respirators would properly function if needed during an emergency.

II. Desired Focus of Comments

MSHA is soliciting comments concerning the proposed information collection. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 201 12th Street South, 4th Floor West, Arlington, VA 22202-5452. Sign in at the receptionist's desk on the 4th floor via the West elevator. Before visiting MSHA in person, call 202-693-9455 to make an appointment, in keeping with the Department of Labor's COVID-19 policy. Special health precautions may be required.

Questions about the information collection requirements may be directed to the person listed in the FOR FURTHER INFORMATION section of this notice.

III. Current Actions

This information collection request contains provisions for Coal Respirator Program. MSHA has provided the data with respect to the number of respondents, responses, burden hours, and burden costs supporting this information collection request.

Type of Review: New collection.

Agency: Mine Safety and Health Administration.

OMB Number: 1219-0New.

Affected Public: Business or other for-profit.

Number of Annual Respondents: 1,106.

Frequency: Annual.

Number of Annual Responses: 19,908.

Annual Time Burden: 11,060 hours.

Annual Other Burden Cost: $0.

Comments submitted in response to this notice will be summarized and included in the request for Office of Management and Budget approval of the proposed new information collection request; they will also become a matter of public record and will be available at https://www.reginfo.gov.

Song-ae Aromie Noe,
Certifying Officer, Mine Safety and Health Administration.

[FR Doc. 2024-09318 Filed 4-30-24; 8:45 am]

BILLING CODE 4510-43-P